DEPARTMENT OF STATE

[Public Notice 6846]

Meeting of Advisory Committee on International Communications and Information Policy

The Department of State's Advisory Committee on International Communications and Information Policy (ACICIP) will hold a public meeting on January 28, 2010 from 9 a.m to 12 p.m. in Room 1107 of the Harry S. Truman Building of the U.S. Department of State. The Truman Building is located at 2201 C Street, NW., Washington, DC 20520.

The committee provides a formal channel for regular consultation and coordination on major economic, social and legal issues and problems in international communications and information policy, especially as these issues and problems involve users of information and communications services, providers of such services, technology research and development, foreign industrial and regulatory policy, the activities of international organizations with regard to communications and information, and developing country issues.

The meeting will be led by ACICIP Chair Mr. Thomas Wheeler of Core Capital Partners and Ambassador Philip L. Verveer, U.S. Coordinator for International Communications and Information Policy. The meeting's agenda will include discussions pertaining to various upcoming international telecommunications meetings and conferences, as well as bilateral and multilateral meetings that have taken place recently. In addition, the Committee will discuss key issues of importance to U.S. communications policy interests including future generation communications technology issues, international market access, Internet governance, ICT development issues, international spectrum requirements and harmonization, cyber-security, and data protection and privacy. Members of the public may submit suggestions and comments to the ACICIP. Submissions regarding an event, consultation, meeting, etc. listed in the agenda above should be received by the ACICIP Executive Secretary (contact information below) at least ten working days prior to the date of that listed event. All comments must be submitted in written form and should not exceed one page for each country (for comments on consultations) or for each subject area (for other comments). Resource limitations preclude acknowledging or replying to submissions.

While the meeting is open to the public, admittance to the Department of State building is only by means of a pre-clearance. For placement on the pre-clearance list, please submit the following information no later than 5 p.m. on Tuesday, January 26, 2010. (Please note that this information is not retained by the ACICIP Executive Secretary and must therefore be re-submitted for each ACICIP meeting):

I. State That You Are Requesting Pre-Clearance to a Meeting

II. Provide the Following Information

1. Name of meeting and its date and time.

2. Visitor's full name.

3. Date of birth.

4. Citizenship.

5. Acceptable forms of identification for entry into the U.S. Department of State include:

• U.S. driver's license with photo.

• Passport.

• U.S. government agency ID.

8. ID number on the form of ID that the visitor will show upon entry.

9. Whether the visitor has a need for reasonable accommodation. Such requests received after January 21st might not be possible to fulfill.

Send the above information to Joseph Burton by fax (202) 647-7407 or e-mail BurtonKJ@state.gov.

Information about members of the public is sought pursuant to 22 U.S.C. 2658; Executive Order 10450; Executive Order 12356: and Section 506(a) of the Federal Records Act of 1950, as amended (44 U.S.C. 3101). The primary purpose for collecting the information is to assure protection of U.S. Department of State facilities and to allow all Department of State (DOS) staff to pre-register single visitors or groups and verify the requester has escort authority. The information furnished is used by the Department of State's Bureau of Diplomatic Security to enhance the Department's security by tracking visitor traffic and to prevent security vulnerability. The information may be shared with Bureau of Diplomatic Security staff as a routine use, and on an as-needed basis with outside law-enforcement organizations as part of the Department's effort to combat terrorism and to cooperate with law enforcement investigations. In addition, the information provided is used to better track, manage, and control access to buildings and restricted areas under the jurisdiction of the Department of State; to determine the status of individuals entering Department of State premises; and to provide data requisite to investigations and security reports. Data may be shared with other Local, State, and Federal law enforcement agencies. Failure to provide the information requested may result in denial of access to U.S. Department of State facilities.

All visitors for this meeting must use the 23rd Street entrance. The valid ID bearing the number provided with your pre-clearance request will be required for admittance. Non-U.S. government attendees must be escorted by Department of State personnel at all times when in the building.

For further information, please contact Joseph Burton, Executive Secretary of the Committee, at (202) 647-5231 or BurtonKJ@state.gov. General information about ACICIP and the mission of International Communications and Information Policy is available at: http://www.state.gov/e/eeb/adcom/c667.htm.

Dated: December 30, 2009.
Joseph Burton,
ACICIP Executive Secretary, Department of State.

[FR Doc. E9-31377 Filed 1-5-10; 8:45 am]

BILLING CODE 4710-45-P